DEPARTMENT OF TRANSPORTATION

Federal Aviation Administration

Agency Information Collection Activities: Corrected Requests for Comments; Clearance of a Renewed Approval of Information Collection: Certification of Repair Stations, Part 145 of Title 14, CFR

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 28, 2018. The burden in this 30-day notice is less than the burden published in the 60-day notice. The 60-day notice burden included a one-time training obligation that is complete. Persons requesting to obtain an initial air agency certificate for a repair station or changes to an existing repair station (air agency) certificate are required to submit this request in a format acceptable to the FAA. Repair stations perform maintenance, preventive maintenance, alterations of aircraft and aircraft components and parts thereof. In order to remain consistent and provide ease of application, the FAA designed and made available to the public the FAA Form 8310-3 Application for Repair Station Certificate and/or Rating. The form provides space for the applicant to provide certification information such as, but not limited to, ratings sought, physical place of business, ownership, and request to contract maintenance functions. The applicants submit FAA Form 8310-3 to the FAA Flight Standards Office closest to the proposed place of business for initial certification. The information collected is necessary to obtain repair station certification or if currently certificated, a change in ratings, changes in ownership, changes in the physical location of the repair station, or any other purpose the applicant deems appropriate.

DATES: Written comments should be submitted by November 28, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0682.

Title: Certification of Repair Stations, Part 145 of Title 14, CFR.

Form Numbers: FAA Form 8310-3.

Type of Review: Clearance of a renewal of an information collection.

Background: The Federal Register Notice with a 60-day comment period soliciting comments on the following collection of information was published on August 28, 2018 (83 FR 43954). 14 CFR part 145 prescribes the requirements for the issuance of repair station certificates. The FAA Form 8310-3, Application for Repair Station Certificate and/or Rating is available to the applicant who wishes to obtain initial repair station certification or submit changes to an existing air agency certificate. The applicant submits this application to the appropriate FAA office by mail or email for review and acceptance. Information entered onto the application consists of, official name of repair station, location where business is conducted, official mailing address, any doing business as name, changes in ratings, or if initial certification, ratings sought, changes in location or housing and facilities, change in name or ownership, or any other purpose for which the applicant requests, including a request for approval to contract maintenance functions to outside entities. Once the FAA reviews the submitted application and finds by inspection that the applicant has the ability to comply with the 14 CFR part 145 requirements for certification, an air agency certificate and ratings is issued. The FAA retains a copy of the application in the FAA office that issued the certificate for an indefinite time or a time-period specified by mandated file retention laws after the certificate is revoked or surrendered.

Respondents: Approximately 4,820 maintenance and alteration organizations.

Responses: 193.

Frequency: Information is collected on occasion.

Estimated Average Burden per Response: 15 minutes.

Estimated Total Annual Burden: 48.25 hours.

Issued in Washington, DC on October 23, 2018.
Barbara Hall,
FAA Information Collection Clearance Officer, Performance, Policy, and Records Management Branch, ASP-110.

[FR Doc. 2018-23532 Filed 10-26-18; 8:45 am]

BILLING CODE 4910-13-P